FEDERAL RETIREMENT THRIFT INVESTMENT BOARD

Sunshine Act; Notice of Meeting

DATE AND TIME: December 9, 2016, Telephonic, 4:30 p.m.

Agenda:Federal Retirement Thrift Investment Board Member Meeting.

STATUS: Closed to the public.

MATTER TO BE CONSIDERED: Information covered under 5 U.S.C. 552b(c)(6), and (c)(9)(B).

CONTACT PERSON FOR MORE INFORMATION: Kimberly Weaver, Director, Office of External Affairs, (202) 942-1640.

Dated: December 7, 2016.
Dharmesh Vashee,
Deputy General Counsel, Federal Retirement Thrift Investment Board.

[FR Doc. 2016-29682 Filed 12-7-16; 11:15 am]

BILLING CODE 6760-01-P